OFFICE OF PERSONNEL MANAGEMENT

Excepted Service; March 2022

AGENCY: Office of Personnel Management (OPM).

ACTION: Notice.

SUMMARY: This notice identifies Schedule A, B, and C appointing authorities applicable to a single agency that were established or revoked from March 1, 2022, to March 31, 2022.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

75. Woodrow Wilson International Center for Scholars (Sch. A, 213.3175)

(a) One Asian Studies Program Administrator, one Global European Studies Program Administrator, one Latin American Program Administrator, one Russian Studies Program Administrator, four Social Science Program Administrators, one Middle East Studies Program Administrator, one African Studies Program Administrator, one Polar Studies Program Administrator, one Canadian Studies Program Administrator; one China Studies Program Administrator, one Science, Technology and Innovation Program Administrator, and one Mexico Studies Program Administrator.

Schedule B

No Schedule B Authorities to report during March 2022.

Schedule C

The following Schedule C appointing authorities were approved during March 2022.

Agency name | Organization name | Position title | Authorization number | Effective date
DEPARTMENT OF AGRICUTURE | Office of Rural Development | State Director—Oklahoma | DA220088 | 03/11/2022
|  | State Director—Nevada | DA220099 | 03/27/2022
|  | State Director—South Dakota | DA220100 | 03/27/2022
|  | State Director—Louisiana | DA220101 | 03/27/2022
|  | State Director—North Dakota | DA220102 | 03/27/2022
|  | State Director—West Virginia | DA220103 | 03/27/2022
|  | State Director—Utah | DA220104 | 03/27/2022
| Farm Service Agency | State Executive Director—New Hampshire | DA220105 | 03/27/2022
| Office of Food and Nutrition Service | Senior Policy Advisor | DA220106 | 03/27/2022
|  | Senior Advisor for External Engagement | DA220108 | 03/27/2022
| Office of Communications | Press Secretary | DA220109 | 03/28/2022
| Office of the Assistant Secretary for Congressional Relations | Confidential Assistant | DA220107 | 03/27/2022
| Office of the Secretary | Scheduler | DA220110 | 03/27/2022
DEPARTMENT OF COMMERCE | Office of International Trade Administration | Scheduler and Special Assistant | DC220079 | 03/10/2022
| Office of National Telecommunications and Information Administration | Director of Intergovernmental Affairs | DC220077 | 03/10/2022
|  | Director of Public Engagement | DC220093 | 03/25/2022
|  | Senior Advisor | DC220098 | 03/28/2022
| Office of Business Liaison | Director of Faith Based and Neighborhood Partnerships | DC220092 | 03/25/2022
| Office of Policy and Strategic Planning | Counselor to the Secretary | DC220085 | 03/28/2022
| Office of the Assistant Secretary for Economic Development | Special Policy Advisor to the Assistant Secretary | DC220088 | 03/14/2022
| Office of the Chief Financial Officer and Assistant Secretary for Administration | Chief of Staff to the Chief Financial Officer and Assistant Secretary for Administration | DC220076 | 03/10/2022
|  | Special Assistant | DC220084 | 03/25/2022
| Office of the Deputy Secretary | Special Assistant | DC220096 | 03/25/2022
| Office of the Secretary | Special Assistant to the Secretary | DC220087 | 03/14/2022
| Office of the Under Secretary | Policy Advisor (2) | DC220089 | 03/17/2022
|  |  | DC220091 | 03/18/2022
DEPARTMENT OF DEFENSE | Office of the Assistant to the Secretary of Defense (Public Affairs) | Director, Integrated Campaigns | DD220114 | 03/14/2022
DEPARTMENT OF THE AIR FORCE | Office of Assistant Secretary Air Force for Acquisition | Special Assistant | DF220009 | 03/02/2022
DEPARTMENT OF EDUCATION | Office of the General Counsel | Senior Counsel | DB220036 | 03/04/2022
| Office of Communications and Outreach | Confidential Assistant | DB220037 | 03/04/2022
| Office of Elementary and Secondary Education | Confidential Assistant | DB220035 | 03/10/2022
| Office of the Secretary | Senior Advisor | DB220039 | 03/10/2022
|  | Confidential Assistant | DB220040 | 03/15/2022
ENVIRONMENTAL PROTECTION AGENCY | Office of the Administrator | Scheduler | EP220037 | 03/08/2022
|  | Attorney-Advisor (General) | EP220039 | 03/11/2022
| Office of the Assistant Administrator for Water | Senior Advisor for Implementation | EP220038 | 03/11/2022
DEPARTMENT OF HEALTH AND HUMAN SERVICES | Office of Refugee Resettlement/Office of the Director | Chief of Staff | DH220049 | 03/01/2022
| Office of the Assistant Secretary for Legislation | Chief of Staff | DH220050 | 03/16/2022
| Office of Intergovernmental and External Affairs | Regional Director, Atlanta, Georgia, Region IV | DH220052 | 03/24/2022
| Office of the Secretary | Advance Representative | DH220059 | 03/24/2022
DEPARTMENT OF HOMELAND SECURITY | Federal Emergency Management Agency | Counselor to the Administrator (Technology, Strategy, and Delivery) | DM220090 | 03/01/2022
| Office of Strategy, Policy, and Plans | Special Assistant | DM220089 | 03/23/2022
DEPARTMENT OF HOUSING AND URBAN DEVELOPMENT | Office of Public Affairs | Senior Press Secretary Director of Speechwriting | DU220033 DU220034 | 03/01/2022 03/17/2022
| Office of Community Planning and Development | Special Assistant to the Assistant Secretary | DU220035 | 03/22/2022
DEPARTMENT OF THE INTERIOR | Office of the Assistant Secretary—Indian Affairs | Senior Advisor to the Assistant Secretary—Indian Affairs | DI220052 | 03/24/2022
| Secretary's Immediate Office | Alaska Coordinator | DI220056 | 03/24/2022
|  | Deputy Communications Director | DI220057 | 03/25/2022
DEPARTMENT OF JUSTICE | Office of Civil Rights Division | Senior Counsel | DJ220046 | 03/23/2022
|  | Counsel | DJ220052 | 03/23/2022
| Office of Legal Counsel | Senior Counselor | DJ220053 | 03/23/2022
DEPARTMENT OF LABOR | Office of Employment and Training Administration | Senior Policy Advisor | DL220038 | 03/10/2022
| Office of Congressional and Intergovernmental Affairs | Tribal Liaison | DL220030 | 03/10/2022
| Office of the Secretary | White House Liaison | DL220032 | 03/10/2022
|  | Policy Advisor | DL220037 | 03/23/2022
|  | Deputy White House Liaison | DL220039 | 03/23/2022
| Women's Bureau | Senior Advisor | DL220036 | 03/16/2022
NATIONAL CREDIT UNION ADMINISTRATION | Office of the Board | Special Assistant and Advisor | CU220002 | 03/27/2022
NATIONAL TRANSPORTATION SAFETY BOARD | Office of Board Members | Confidential Assistant | TB220004 | 03/18/2022
OFFICE OF MANAGEMENT AND BUDGET | Office of Information and Regulatory Affairs | Counselor | BO220006 | 03/07/2022
| Office of E-Government and Information Technology | Confidential Assistant | BO220007 | 03/07/2022
| Office of the Director | Confidential Assistant | BO220010 | 03/17/2022
| Office of Communications | Press Assistant | BO220009 | 03/23/2022
| Office of Legislative Affairs | Deputy to the Associate Director | BO220012 | 03/31/2022
OFFICE OF NATIONAL DRUG CONTROL POLICY | Office of State, Local and Tribal Affairs | Policy Analyst (State, Local, and Tribal Affairs)(2) | QQ220002 | 03/05/2022
|  |  | QQ220003 | 03/15/2022
OFFICE OF PERSONNEL MANAGEMENT | Office of Communications | Special Assistant | PM220022 | 03/09/2022
SECURITIES AND EXCHANGE COMMISSION | Office of the Chairman | Senior Advisor | SE220005 | 03/04/2022
| Office of Legislative and Intergovernmental Affairs | Legislative Affairs Specialist | SE220009 | 03/24/2022
SMALL BUSINESS ADMINISTRATION | Office of Field Operations | Regional Administrator, Region VIII | SB220025 | 03/31/2022
| Office of the Administrator | Senior Advisor | SB220023 | 03/10/2022
|  | White House Liaison | SB220027 | 03/31/2022
SOCIAL SECURITY ADMINISTRATION | Office of the Commissioner | Senior Advisor | SZ220003 | 03/16/2022
DEPARTMENT OF STATE | Office of the Assistant Secretary Bureau of Democracy Human Rights and Labor | Senior Advisor | DS220029 | 03/25/2022
DEPARTMENT OF TRANSPORTATION | Office of the Under Secretary of Transportation for Policy | Associate Director of Bipartisan Infrastructure Law Implementation | DT220048 | 03/08/2022
DEPARTMENT OF THE TREASURY | Secretary of the Treasury | Senior Advisor | DY220071 | 03/17/2022
| Department of the Treasury | Special Advisor | DY220073 | 03/17/2022
DEPARTMENT OF VETERANS AFFAIRS | Veterans Experience Office | Advisor to Chief Veterans Experience Officer | DV220030 | 03/18/2022
| Office of the Secretary and Deputy | Advisor to Chief of Staff | DV220031 | 03/18/2022

The following Schedule C appointing authorities were revoked during March 2022.

Agency name | Organization name | Position title | Request number | Vacate date
DEPARTMENT OF AGRICULTURE | Office of the Secretary | Confidential Assistant | DA210131 | 03/26/2022
DEPARTMENT OF COMMERCE | Office of Executive Secretariat | Deputy Director | DC220014 | 03/26/2022
| Office of Legislative and Intergovernmental Affairs | Director of Legislative Affairs | DC210202 | 03/12/2022
| Office of the Assistant Secretary for Economic Development | Special Advisor | DC210113 | 03/27/2022
DEPARTMENT OF EDUCATION | Office of the Secretary | Senior Advisor to the Chief of Staff | DB210033 | 03/26/2022
DEPARTMENT OF HEALTH AND HUMAN SERVICES | Office for Civil Rights | Senior Advisor | DH210125 | 03/12/2022
| Office of Refugee Resettlement/Office of the Director | Chief of Staff | DH210112 | 03/12/2022
| Office of the Assistant Secretary for Legislation | Special Assistant | DH210108 | 03/26/2022
| Office of the Assistant Secretary for Public Affairs | National Press Secretary (Covid) | DH210116 | 03/31/2022
| Office of the Secretary | Special Assistant and Briefing Book Coordinator | DH210102 | 03/26/2022
DEPARTMENT OF HOUSING AND URBAN DEVELOPMENT | Office of Fair Housing and Equal Opportunity | Special Assistant to the Deputy Secretary | DU210049 | 03/26/2022
| Office of Public Affairs | Press Secretary | DU210022 | 03/12/2022
|  | Deputy Press Secretary | DU210087 | 03/11/2022
DEPARTMENT OF JUSTICE | Office of Legal Counsel | Senior Counselor | DJ210158 | 03/26/2022
DEPARTMENT OF THE TREASURY | Secretary of the Treasury | Special Assistant | DY210098 | 03/26/2022
|  | Policy Advisor | DY210100 | 03/26/2022
DEPARTMENT OF TRANSPORTATION | Office of the Deputy Secretary | Advisor to the Deputy Secretary | DT210068 | 03/26/2022
ENVIRONMENTAL PROTECTION AGENCY | Office of Public Engagement and Environmental Education | Special Assistant | EP210077 | 03/12/2022
| Office of the Assistant Administrator for Chemical Safety and Pollution Prevention | Special Assistant | EP210073 | 03/12/2022
OFFICE OF SCIENCE AND TECHNOLOGY POLICY | Office of Science and Technology Policy | Legislative Affairs Director | TS210002 | 03/26/2022
OFFICE OF THE SECRETARY OF DEFENSE | Office of the Assistant Secretary of Defense (Legislative Affairs) | Special Assistant (3) | DD210148 | 03/12/2022
|  |  | DD210191 | 03/12/2022
|  |  | DD210269 | 03/12/2022
SMALL BUSINESS ADMINISTRATION | Office of the Administrator | White House Liaison | SB210005 | 03/26/2022

Authority: 5 U.S.C. 3301 and 3302; E.O. 10577, 3 CFR, 1954-1958 Comp., p. 218.

Office of Personnel Management.
Stephen Hickman,
Federal Register Liaison.

[FR Doc. 2022-18176 Filed 8-23-22; 8:45 am]

BILLING CODE 6325-39-P